DEPARTMENT OF HEALTH AND HUMAN SERVICES

Centers for Disease Control and Prevention

Disease, Disability, and Injury Prevention and Control Special Emphasis Panel (SEP): Initial Review

The meeting announced below concerns Comprehensive High-Impact HIV Prevention Projects for Community-Based Organizations, Funding Opportunity Announcement (FOA) PS15-1502, Initial Review.

SUMMARY: This document corrects a notice that was published in the Federal Register on February 9, 2015, Volume 80, Number 26, pages 6971 and 6972. The times and dates should read as follows:

DATES: Times and Dates:

9 a.m.-4 p.m., Panels 1-5; March 3, 2015 (Closed).

9 a.m.-4 p.m., Panels 6-12; March 6, 2015 (Closed).

Status: The meeting will be closed to the public in accordance with provisions set forth in Section 552b(c) (4) and (6), Title 5 U.S.C., and the Determination of the Director, Management Analysis and Services Office, CDC, pursuant to Public Law 92-463.

FOR FURTHER INFORMATION CONTACT: Elizabeth Wolfe, Public Health Advisor, CDC, 1600 Clifton Road NE., Mailstop E07, Atlanta, Georgia 30333, Telephone: (404) 639-8135.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2015-03952 Filed 2-25-15; 8:45 am]

BILLING CODE 4163-18-P